DEPARTMENT OF AGRICULTURE

Forest Service

Lake County Resource Advisory Committee

AGENCY: Forest Service, USDA.

ACTION: Notice of meeting.

SUMMARY: The Lake County Resource Advisory Committee (RAC) will hold a meeting.

DATES: The meeting will be held on June 24, 2004, from 3:30 p.m. to 6 p.m.

ADDRESSES: The meeting will be held at the Lake County Board of Supervisors's Chambers at 255 North Forbes Street, Lakeport.

FOR FURTHER INFORMATION CONTACT: Debbie McIntosh, Committee Coordinator, USDA, Mendocino National Forest, Upper Lake Ranger District, 10025 Elk Mountain Road, Upper Lake, CA 95485. (707) 275-2361; e-mail dmcintosh@fs.fed.us.

SUPPLEMENTARY INFORMATION: Agenda items to be covered include: (1) Roll call/establish quorum; (2) review and approval of the minutes of the April 29, 2004, meeting; (3) discuss other business for 2004; (4) discuss appointments to RAC for second terms; (5) review new projects for 2005; (6) recommend projects for 2054; (7) discuss project cost accounting USFS/County of Lake; (8) set next meeting date and; (9) public comment period. The meeting is open to the public. Public input opportunity will be provided and individuals will have the opportunity to address the Committee at that time.

Dated: May 10, 2004.
Blaine P. Baker,
Designated Federal Officer.

[FR Doc. 04-11120 Filed 5-14-04; 8:45 am]

BILLING CODE 3410-11-M